DEPARTMENT OF TRANSPORTATION

Surface Transportation Board

[STB Finance Docket No. 34712]

The Kansas City Southern Railway Company—Temporary Trackage Rights Exemption—BNSF Railway Company

BNSF Railway Company (BNSF) has agreed to grant non-exclusive, temporary overhead trackage rights to The Kansas City Southern Railway Company (KCS) over BNSF's line of railroad between milepost 307.5, in Neosho, MO, and milepost 3.5X, at Murray Yard, in Kansas City, MO, a distance of approximately 229.1 miles.

The transaction was scheduled to be consummated on June 14, 2005, and the temporary rights will expire on July 21, 2005. The purpose of the temporary rights is to allow KCS to bridge its train service while KCS's main lines are out of service due to certain programmed track, roadbed and structural maintenance.

As a condition to this exemption, any employees affected by the acquisition of the temporary rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34712, must be filed with the Surface Transportation Board, 1925 K Street, NW., Washington, DC 20423-0001. In addition, a copy of each pleading must be served on William A. Mullins, Baker and Miller, PLLC, 2401 Pennsylvania Avenue, NW., Suite 300, Washington, DC 20037.

Board decisions and notices are available on our Web site at “www.stb.dot.gov.”

Decided: June 15, 2005.
By the Board, David M. Konschnik, Director, Office of Proceedings.
Vernon A. Williams,
Secretary.

[FR Doc. 05-12193 Filed 6-21-05; 8:45 am]

BILLING CODE 4915-01-P